DEPARTMENT OF TRANSPORTATION

Federal Transit Administration

Notice To Rescind Notice of Intent To Prepare an Environmental Impact Statement for Proposed Transit Improvements to the Red and Purple Lines, Cook County, Illinois

AGENCY: Federal Transit Administration (FTA), DOT.

ACTION: Rescind notice of intent to prepare an Environmental Impact Statement.

SUMMARY: The Federal Transit Administration (FTA), in cooperation with the Chicago Transit Authority (CTA), is issuing this notice to advise the public that the Notice of Intent (NOI) to prepare an Environmental Impact Statement (EIS) for the proposed transportation improvements on the Red and Purple lines between Belmont Station in Chicago and Linden terminal in Wilmette, Illinois is being rescinded.

FOR FURTHER INFORMATION CONTACT: Mr. Reginald Arkell, Community Planner, Federal Transit Administration, Region V, 200 West Adams Street, Suite 320, Chicago, IL 60606, phone 312-886-3704, email reginald.arkell@dot.gov.

SUPPLEMENTARY INFORMATION: The FTA, as the lead federal agency, in cooperation with the CTA published a NOI in the Federal Register on January 3, 2011 (76 FR 207-210) to prepare a Tier 1 EIS for the Red and Purple Modernization (RPM) project to bring 9.6 miles of the Red and Purple lines up to a state of good repair, from the track structure immediately north of Belmont Station in Chicago to the Linden terminal in Wilmette, Illinois. On July 26, 2012, FTA in cooperation with CTA published a supplemental NOI in the Federal Register (77 FR 43903) to inform interested parties that the EIS would no longer be a Tier 1 EIS as originally proposed and instead would be a standard project-level EIS. Since that time, FTA and CTA have decided to pursue a more tailored approach of environmental review for each project of independent utility within the RPM corridor. FTA and CTA anticipate that environmental assessments, leading to Findings of No Significant Impact (FONSI), and categorical exclusions would be the appropriate classes of action under the National Environmental Policy Act (NEPA) for these projects. Therefore, the FTA has decided to rescind the NOI for the EIS.

Comments and questions concerning the proposed actions should be directed to FTA at the address provided above.

Marisol R. Simón,
Regional Administrator.

[FR Doc. 2014-09273 Filed 4-22-14; 8:45 am]

BILLING CODE P